DEPARTMENT OF AGRICULTURE

Forest Service

Lake Tahoe Basin Federal Advisory Committee (LTFAC)

AGENCY: Forest Service, USDA.

ACTION: Notice of meeting.

SUMMARY: The Lake Tahoe Federal Advisory Committee will hold a meeting on March 21, 2012 at the Sierra Nevada College, 999 Tahoe Boulevard, Incline Village, Nevada 89451-9500. This Committee, established by the Secretary of Agriculture on December 15, 1998 (64 FR 2876), is chartered to provide advice to the Secretary on implementing the terms of the Federal Interagency Partnership on the Lake Tahoe Region and other matters raised by the Secretary.

DATES: The meeting will be held March 21, 2012, beginning at 1:30 p.m. and ending at 4:30 p.m.

ADDRESSES: Sierra Nevada College, 999 Tahoe Boulevard, Incline Village, Nevada 89451-9500.

FOR FURTHER INFORMATION OR TO REQUEST AN ACCOMMODATION CONTACT: Arla Hains, Lake Tahoe Basin Management Unit, Forest Service, 35 College Drive, South Lake Tahoe, CA 96150, (530) 543-2773.

SUPPLEMENTARY INFORMATION: Items to be covered on the agenda: (1) Adaptive Management, (2) review and discussion on the Environmental Improvement Program funding and fiscal responsibility, and (3) public comment.

All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

Dated: February 21, 2012.
Nancy J. Gibson,
Forest Supervisor.

[FR Doc. 2012-4567 Filed 2-24-12; 8:45 am]

BILLING CODE 3410-11-P